DEPARTMENT OF COMMERCE

National Oceanic and Atmospheric Administration

[I.D. 081204A]

Draft NOAA Shrimp Issues and Options Paper; Public Meetings

AGENCY: National Marine Fisheries Service (NMFS), National Oceanic and Atmospheric Administration (NOAA), Commerce.

ACTION: Notice of public meetings.

SUMMARY: The National Marine Fisheries Service (NOAA Fisheries) is hosting public meetings to present the results of an analysis of different options and alternatives that may help resolve current financial and market industry challenges. The analysis was developed at the request of the shrimp industry and other interested parties. The options will be presented in their entirety and the results from those that could be analyzed will be presented. Public comment on the analysis will be taken at the meetings. See DATES and ADDRESSES for specific dates, times and locations of the meetings.

DATES: The meetings held on Wednesday September 1st and Thursday September 2nd are scheduled to start at 9:30 a.m. and end at 4:00 p.m. Additional meetings were scheduled for Aug. 23-24 in Houston; Aug. 25 in Tampa; Aug. 27th in Charleston, SC; and Aug. 28th in New Bern, NC.

ADDRESSES: The meeting September 1st will be held at the New Orleans Airport Plaza Hotel and Conference Center, 2150 Veterans Blvd, Kenner, LA 70062; the meeting September 2nd will be held at the Mississippi Dept. of Marine Resources, Eldon Bolton State Office Building, 1141 Bayview Avenue, Biloxi, Miss. 39530.

FOR FURTHER INFORMATION CONTACT: Gordon J. Helm, Deputy Director, Office of Constituent Services. Telephone (301) 713-2379.

SUPPLEMENTARY INFORMATION: The primary goal of the meeting is to present the analysis and collect public input on the DRAFT shrimp industry issues and options included in the paper. Copies of the DRAFT paper will be available at the meetings and will also be available online beginning 11 a.m. EST August 23, 2004, at: www.nmfs.noaa.gov/mediacenter. Those interested in obtaining a copy after the meetings may contact Dr. John Ward, Economist. Telephone (301) 713-2379.

Special Accommodations

The meeting is physically accessible to people with disabilities. Requests for sign language interpretation or other auxiliary aids should be directed to Dr. John Ward at (301) 713-2379 at least 5 days prior to the meeting date.

Dated: August 12, 2004.
Gordon J. Helm,
Deputy Director, Office of Constituent Services, National Marine Fisheries Service.

[FR Doc. 04-18964 Filed 8-17-04; 8:45 am]

BILLING CODE 3510-22-S